DEPARTMENT OF THE INTERIOR

National Park Service

General Management Plan/Environmental Impact Statement, Amistad National Recreation Area, Texas

AGENCY: National Park Service, Department of the Interior.

ACTION: Notice of intent to prepare an environmental impact statement for a general management plan for Amistad National Recreation Area.

SUMMARY: Under the provisions of the National Environmental Policy Act, the National Park Service is preparing an environmental impact statement for a general management plan for Amistad National Recreation Area. This effort will result in a comprehensive general management plan that provides a framework for making management decisions regarding the preservation of natural and cultural resources, visitor use and interpretation, and development of appropriate park facilities. In cooperation with the Texas State Historic Preservation Office, the Texas Game and Fish Department, and the Texas Department of Water Quality, attention will also be given to resources outside the boundaries that affect the integrity of Amistad National Recreation Area. Alternatives to be considered include no-action, the proposed action, and other reasonable alternatives.

Major issues at Amistad National Recreation Area include:

1. Declining water levels in the reservoir have exposed numerous significant archeological sites to erosion, vandalism, and damage from livestock;

2. Lower water levels have reduced the number of access points to the reservoir, affecting recreational uses at the park and leading to the creation of a network of social trails;

3. Increasing numbers of domestic livestock and exotic game species are grazing on park land, posing potential impacts on cultural sites and habitat for native species;

4. The need to consider establishing fees for hunting in the park;

5. The need to address the potential acquisition of additional private lands within the legislated boundaries of the park;

6. The need for a new administration facility and visitor center;

7. Trans-boundary issues and the need for increased cooperation between the NPS and its counterparts in the government of Mexico.

A public forum for comment on the full range of appropriate visitor experiences and areas in which these experiences may be in conflict will be provided throughout the course of the GMP process. Public involvement is essential for the development of creative solutions to guide future park management. A briefing statement has been prepared that summarizes the issues identified to date. Copies of that information may be obtained from: Superintendent, Amistad National Recreation Area.

DATES: The Park Service will accept comments from the public for 30 days from the date this notice is published in the Federal Register.

ADDRESSES: Information will be available for public review and comment in the office of the Superintendent, Alan Cox, Amistad National Recreation Area. The director, Intermountain Region, National Park Service will approve the environmental impact statement.

The National Park Service will conduct public scoping (public meetings and solicitation of comments from state, county and town agencies and organizations; park neighbors; state historic preservation officer; and associated American Indian tribes) for the Amistad General Management Plan/Environmental Impact Statement from January, 2003 to August, 2005. Public involvement will play a critical role in the preparation of the environmental impact statement that will analyze the impacts of the management alternatives in the draft general management plan.

DATES: The National Park Service will conduct further public scoping for the draft alternatives and environmental impact statement for a period of 30-days beyond publication of this Notice of Intent.

ADDRESSES: You may mail comments to: Superintendent's Office, Amistad National Recreation Area, HCR 3 Box 5J, Hwy 90 West, Del Rio, TX 83012. You may also hand-deliver comments to the Superintendent's Office, Amistad National Recreation Area, Del Rio, TX. (Attn: General Management Plan).

FOR FURTHER INFORMATION CONTACT: Superintendent Alan Cox at 830.775.7491 x201 or Management Assistant M. Mark Morgan at 830.775.7491 x234 e-mail: amis_superintendent@nps.gov.

SUPPLEMENTARY INFORMATION: Our practice is to make comments, including names and home addresses of respondents, available for public review during regular business hours. Individual respondents may request that we withhold their home address from the record, which we will honor to the extent allowable by law. If you wish us to withhold your address, you must state this prominently at the beginning of your comment. We will make all submissions from organizations or businesses, and from individuals identifying themselves as representatives or officials of organizations or businesses, available for public inspection in their entirety.

Dated: November 5, 2002.
Michael Snyder,
Deputy Director, Intermountain Region, National Park Service.

[FR Doc. 03-997 Filed 1-15-03; 8:45 am]

BILLING CODE 4310-70-P